DEPARTMENT OF STATE

Office of the United States Trade Representative

[Public Notice 6693]

Notice of Public Meeting and Solicitation of Written Comments

Title: Written Comments Concerning the Administration's Review of the U.S. Model Bilateral Investment Treaty.

SUMMARY: The Department of State and the Office of the United States Trade Representative (USTR), co-leads of the U.S. bilateral investment treaty (BIT) program, are soliciting written comments and will hold a public meeting concerning the Administration's review of the U.S. model BIT. The review is intended to ensure that the model BIT is consistent with the public interest and the overall U.S. economic agenda. The key question is whether the current model text, last updated in 2004, achieves these objectives or whether there are changes that should be made.

DATES: The public meeting will be held on July 29, 2009, from 9 a.m.-12 noon and 2 p.m.-5 p.m. (or until business is concluded) in the Loy Henderson Auditorium of the Harry S. Truman Building of the Department of State (Truman Building). Representatives from the Department of State and USTR will chair the meeting. To provide for efficient conduct of the meeting, persons wishing to speak at the meeting are requested to provide a written summary of their remarks in advance; however, failure to do so will not bar a person from speaking. Speakers will be asked to limit their remarks to five minutes. Written comments submitted under this notice are due by 5 p.m. on July 31.

ADDRESSES: To gain admission to the Department of State for the meeting, RSVP by 5 p.m. on July 23 with the following information, which will be used to expedite admission to the Truman Building:

• Full name.

• Date of birth.

• Driver's license state and number or passport number.

We request that RSVPs also include the organization, agency, or company affiliation of each individual (if any). RSVPs should also include any requests for reasonable accommodation, which should be made before July 23. Requests made after that date will be considered, but might not be possible to fulfill. To support full and effective participation of persons with disabilities, the Loy Henderson is equipped with wheelchair accessible podiums and ramps. RSVPs should be sent by e-mail to Model_BIT_RSVP@state.gov or by fax to (202) 647-0320. The Truman Building is located at 2201 C Street, NW., Washington, DC, 20520. PERSONS ATTENDING THE JULY 29 PUBLIC MEEING MUST ENTER THE STATE DEPARTMENT THROUGH THE 23rd STREET ENTRANCE OF THE TRUMAN BUILDING.

Written comments may be submitted by e-mail to Model_BIT_Review@state.gov and jonathan_kallmer@ustr.eop.gov or, for those with access to the Internet, may be submitted at the following address: http://www.regulations.gov/search/index.jsp. If needed, comments may be submitted by fax to (202) 647-0320 or (202) 395-3891. Please note that all comments submitted under this notice will be posted on regulations.gov and will be accessible to the general public.

FOR FURTHER INFORMATION CONTACT: Michael Tracton, State Department BIT Coordinator, at (202) 736-4060, or Jonathan (Josh) Kallmer, Deputy Assistant U.S. Trade Representative for Investment, at (202) 395-9451.

SUPPLEMENTARY INFORMATION:

Background

The United States negotiates BITs on the basis of a model text, last updated in 2004. The model may be viewed on the State Department Web site (http://www.state.gov/documents/organization/117601.pdf) or the USTR Web site (http://www.ustr.gov/sites/default/files/U.S.%20model%20BIT.pdf). The United States is presently a Party to BITs with 40 countries (list available at: http://www.state.gov/e/eeb/ifd/bit/117402.htm). In addition to the above-mentioned public meeting and the opportunity to submit written comments, the Administration is seeking advice from State Department's Advisory Committee on International Economic Policy and from statutory advisory committees that advise USTR and the Department of Commerce.

Dated: July 8, 2009.
Wesley S. Scholz,
Director, Office of Investment Affairs, Department of State.

Dated: July 8, 2009.
Jonathan S. Kallmer,
Deputy Assistant U.S. Trade Representative for Investment, Office of the United States Trade Representative.

[FR Doc. E9-16639 Filed 7-13-09; 8:45 am]

BILLING CODE 4710-07-P